Proclamation 8536 of June 12, 2010

To Implement Certain Provisions of the Dominican Republic-Central America-United States Free Trade Agreement With Respect to Costa Rica, and for Other Purposes

By the President of the United States of America

A Proclamation

1. On August 5, 2004, the United States entered into the Dominican Republic-Central America-United States Free Trade Agreement (the “Agreement”) with Costa Rica, the Dominican Republic, El Salvador, Guatemala, Honduras, and Nicaragua. The Agreement was approved by the Congress in section 101(a) of the Dominican Republic-Central America-United States Free Trade Agreement Implementation Act (the “CAFTA-DR Act”) (Public Law 109-53, 119 Stat. 462) (19 U.S.C. 4011(a)).

2. Section 201(a) of the CAFTA-DR Act (19 U.S.C. 4031(a)) authorizes the President to proclaim such modifications or continuation of any duty, such continuation of duty-free or excise treatment, or such additional duties, as the President determines to be necessary or appropriate to carry out or apply Article 3.3 and Annex 3.3 (which includes the schedule of United States duty reductions with respect to originating goods) of the Agreement.

3. Presidential Proclamation 8331 of December 23, 2008, modified the Harmonized Tariff Schedule of the United States (HTS) to provide for the preferential tariff treatment being accorded under the Agreement for certain goods of Costa Rica, including tariff-rate quotas for certain goods.

4. Presidential Proclamation 8405 of August 31, 2009, modified certain rules of origin of the North American Free Trade Agreement (NAFTA). Three technical errors were made in the modifications of general note 12 to the HTS as provided in Annex I of Publication 4095 of the United States International Trade Commission entitled “Modifications to the Harmonized Tariff Schedule of the United States to Adjust Rules of Origin Under the North American Free Trade Agreement,” which was incorporated by reference into Proclamation 8405.

5. I have determined that technical corrections to general note 12 to the HTS are necessary to provide the tariff and certain other treatment accorded under the NAFTA to originating goods.

6. Presidential Proclamation 8214 of December 27, 2007, modified the rules of origin set out in Annexes 3A and 3B of the United States-Singapore Free Trade Agreement (USSFTA). Two technical errors were made in Annex II to that proclamation modifying general note 25 to the HTS.

7. I have determined that technical corrections to general note 25 to the HTS are necessary to provide the tariff and certain other treatment accorded under the USSFTA to originating goods.

8. Proclamation 8214 also modified the rules of origin set out in Annex 4.1 to the United States-Chile Free Trade Agreement (USCFTA). Two technical errors were made in Annex I to that proclamation modifying general note 26 to the HTS.

9. I have determined that technical corrections to general note 26 are necessary to provide the tariff and certain other treatment accorded under the USCFTA to originating goods.

10. Section 604 of the Trade Act of 1974 (the “1974 Act”) (19 U.S.C. 2483), as amended, authorizes the President to embody in the HTS the substance of relevant provisions of that Act, and of other Acts affecting import treatment, and of actions taken thereunder.

NOW, THEREFORE, I, BARACK OBAMA, President of the United States of America, by virtue of the authority vested in me by the Constitution and the laws of the United States of America, including but not limited to section 201(a) of the CAFTA-DR Act and section 604 of the 1974 Act, do proclaim that:

(1) In order to provide for the preferential tariff treatment being accorded under the Agreement for certain sugar and sugar-containing goods of Costa Rica and to provide a tariff-rate quota for such goods of Costa Rica, the HTS is modified as set forth in Annex I to this proclamation.

(2) The amendments to the HTS set forth in Annex I of this proclamation shall be effective with respect to goods entered, or withdrawn from warehouse for consumption, on or after June 15, 2010.

(3) In order to make technical corrections to general note 12 to the HTS, the HTS is modified as provided in section A of Annex II to this proclamation. The modifications to the HTS set forth in section A of Annex II shall be effective with respect to goods entered, or withdrawn from warehouse for consumption, on or after October 3, 2009.

(4) In order to make technical corrections to general note 25 to the HTS, the HTS is modified as provided in section B of Annex II to this proclamation.

(5) In order to make technical corrections to general note 26 to the HTS, the HTS is modified as provided in section C of Annex II to this proclamation.

(6) The modifications to the HTS set forth in sections B and C of Annex II to this proclamation shall be effective with respect to goods entered, or withdrawn from warehouse for consumption, on or after February 8, 2009.

(7) Any provisions of previous proclamations and Executive Orders that are inconsistent with the actions taken in this proclamation are superseded to the extent of such inconsistency.

IN WITNESS WHEREOF, I have hereunto set my hand this twelfth day of June, in the year of our Lord two thousand ten, and of the Independence of the United States of America the two hundred and thirty-fourth.

Billing code 3195-W0-P

[FR Doc. 2010-14728

Filed 6-15-10; 11:15 am]

Billing code 7020-02-P